FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants:

SCM Global, Inc., 1201 Corbin Street, 2nd Floor, Elizabeth, NJ 07201. Officers: David Dvinov, Vice President (Qualifying Individual), Yevgeniy Karp, President

United Cargo International, Inc., 23482 Foley Street, Unit A, Hayward, CA 94545. Officers: Rudy M. Abilar, Secretary (Qualifying Individual), Leticia A. Hayashi, CEO

United Logistics (LAX) Inc., 719 S. Nogales Street, Suite A8, City of Industry, CA 91748. Officer: Ray Kao, President, (Qualifying Individual)

Non-Vessel-Operating Common Carrier and Ocean Freight Forwarder Transportation Intermediary Applicants:

Consumers Shipping & Travel, 2400 Barnum Avenue, Stratford, CT 06615. Bertram Palmer, Sole Proprietor

Shore Line International LLC, 1745 Merrick Road, Merrick, NY 11566. Officer: Peter Foret, President (Qualifying Individual)

K & R Logistics Inc., 9111 S. La Cienega Blvd., #105, Inglewood, CA 90301. Officers: Nai-Hua Ann Lee Hou, Vice President (Qualifying Individual), Keith Lee, President

Ocean Freight Forwarder—Ocean Transportation Intermediary Applicants:

Transnuclear, Inc., Four Skyline Drive, Hawthorne, NY 10532. Officers: Alan S. Hanson, President (Qualifying Individual), William D. Gallo, Sr. Vice President

Oconca Shipping (N.Y.) Inc., 161-15 Rockaway Blvd., Suite #307, Jamaica, NY 11434. Officer: Yuan Li, Director (Qualifying Individual)

Transphere, Inc., Suite J, Interchange Commerce Park, 38281 Schoolcraft Road, Livonia, MI 48150. Officers: Chetan Koradia, President (Qualifying Individual), Smita Koradia, Vice President

Trans Global Services, L.L.C., 1550 Wilson Blvd., #701, Arlington, VA 22209. Officer: Ravi Raj Singh, President (Qualifying Individual)

Nations Express, Inc., 1328-B Crossbeam Drive, Charlotte, NC 28217. Officers: Daniel R. Dukesherer, Vice President (Qualifying Individual), William R. Frazier, President

Dated: May 27, 2005.
Karen V. Gregory,
Assistant Secretary.

[FR Doc. 05-10978 Filed 6-1-05; 8:45 am]

BILLING CODE 6730-01-P